DEPARTMENT OF THE INTERIOR

Bureau of Indian Affairs

Final Environmental Impact Statement for the Proposed Cabazon Section 6 General Plan, Cabazon Indian Reservation, Riverside County, California

AGENCY: Bureau of Indian Affairs, Interior.

ACTION: Notice.

SUMMARY: This notice advises the public that the Bureau of Indian Affairs (BIA) intends to file a Final Environmental Impact Statement (FEIS) for a general development plan and master lease of approximately 590 acres on the Cabazon Indian Reservation in Riverside County, California, with the U.S. Environmental Protection Agency, and that the FEIS is now available for final public review. Brief descriptions of the proposed action and alternatives follow as supplementary information.

DATES: A Record of Decision will be issued on or after February 22, 2000.

ADDRESSES: Copies of this FEIS may be obtained from Mr. William C. Allan, Regional Environmental Protection Specialist, Bureau of Indian Affairs, Pacific Region, 2800 Cottage Way, Sacramento, California 95825, telephone (916) 978-6043; or by contacting Reese-Chambers Systems Consultants, at (805) 386-4343. Copies of the FEIS have already been sent to all agencies and individuals who participated in the scoping process or public hearings, who commented on the Draft EIS, or who have already requested copies of the document.

FOR FURTHER INFORMATION CONTACT: Mr. William C. Allan, (916) 978-6043.

SUPPLEMENTARY INFORMATION: The BIA prepared this FEIS in cooperation with the Cabazon Band of Mission Indians. The proposed action is a master lease and development plan for the Cabazon Resource Recovery Park. The lease area is approximately 590 contiguous acres of Indian trust land on the Cabazon Indian Reservation. It is located in Section 6, Township 7 South, Range 9 East, SBB&M, one mile northwest of the town of Mecca, California. Subleases from the master lease would be for a variety of recycling type industries. These include, but are not limited to, a materials recovery facility, a biomass gasification plant, a food and green waste conversion plant, an aquaculture facility, a used oil refinery, a platinum recycling facility, a paper de-inking and recycling plant and a medical waste disposal facility. Support infrastructure would include rail yards plus power generation/co-generation and sewage treatment facilities.

The principal alternatives to the proposed action that were analyzed for the FEIS include no action (no approval of the master lease) and a reduced scope project, which eliminates the paper de-inking and recycling plant and the medical waste disposal facility from the proposed action. The reduced scope alternative is environmentally preferred and is recommended for selection in the Record of Decision.

This notice is published pursuant to Section 1503.1 of the Council of Environmental Quality Regulations (40 CFR, Parts 1500 through 1508) implementing the procedural requirements of the National Environmental Policy Act of 1969, as amended (42 U.S.C. 437 et seq.) Department of the Interior Manual (510 DM1-7) and is in the exercise of authority delegated to the Assistant Secretary—Indian Affairs by 209 DM 8.

Dated: January 13, 2000.
Kevin Gover,
Assistant Secretary-Indian Affairs.

[FR Doc. 00-1457 Filed 1-20-00; 8:45 am]

BILLING CODE 4310-02-P